DEPARTMENT OF COMMERCE

National Oceanic and Atmospheric Administration (NOAA)

Marine Protected Areas Federal Advisory Committee; Public Meeting

AGENCY: National Ocean Service, NOAA, Department of Commerce.

ACTION: Notice of open meeting.

SUMMARY: Notice is hereby given of a meeting of the Marine Protected Areas Federal Advisory Committee (Committee) in Charleston, South Carolina.

DATES: The meeting will be held Tuesday, April 20, 2010, from 9 a.m. to 5:30 p.m., Wednesday, April 21, from 8:30 a.m. to 12 p.m., and Thursday, April 22, from 8:30 a.m. to 4:30 p.m. These times and the agenda topics described below are subject to change. Refer to the web page listed below for the most up-to-date meeting agenda.

ADDRESSES: The meeting will be held at the Francis Marion Hotel, 387 King Street, Charleston, South Carolina.

FOR FURTHER INFORMATION CONTACT: Lauren Wenzel, Designated Federal Officer, MPA FAC, National Marine Protected Areas Center, 1305 East West Highway, Silver Spring, Maryland 20910. (Phone: 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158 on MPAs. The meeting will be open to public participation from 4 p.m. to 4:45 p.m. on Tuesday, April 20, 2010, and from 8:35 a.m. to 9:30 a.m. on Thursday, April 22, 2010. In general, each individual or group will be limited to a total time of five (5) minutes. If members of the public wish to submit written statements, they should be submitted to the Designated Federal Official by April 15, 2010.

Matters to be Considered: The focus of the Committee's meeting will be the establishment of appropriate Subcommittees and Workgroups and their development of work plans to address the Committee's new charge. The Committee will receive an update on the Administration's Ocean Policy Task Force and Coastal and Marine Spatial Planning initiatives, and their linkages to the national system of MPAs. The Committee will hear from two panels of MPA stakeholders: one on regional MPA issues in the South Atlantic, and one on cultural MPA resources. The agenda is subject to change. The latest version will be posted at http://www.mpa.gov.

Donna Wieting,
Director, Office of Ocean and Coastal Resource Management.

[FR Doc. 2010-7082 Filed 4-1-10; 8:45 am]

BILLING CODE 3510-22-M